DEPARTMENT OF HOMELAND SECURITY

U.S. Citizenship and Immigration Services

Agency Information Collection Activities: Form I-905, Extension of an Existing Information Collection; Comment Request

ACTION: 30-Day Notice of Information Collection Under Review: Form I-905, Application for Authorization to Issue Certification for Health Care Workers and Related Requirements.

The Department of Homeland Security, U.S. Citizenship and Immigration Services (USCIS) will be submitting the following information collection request to the Office of Management and Budget (OMB) for review and clearance in accordance with the Paperwork Reduction Act of 1995. The information collection was previously published in the Federal Register on April 12, 2011, at 76 FR 20362, allowing for a 60-day public comment period. USCIS received one comment after publishing this notice.

The purpose of this notice is to allow an additional 30 days for public comments. Comments are encouraged and will be accepted until August 8, 2011. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief, Regulatory Products Division, Clearance Officer, 20 Massachusetts Avenue, Washington, DC 20529-2020. Comments may also be submitted to DHS via facsimile to 202-272-0997 or via e-mail at uscisfrcomment@dhs.gov, and to the OMB USCIS Desk Officer via facsimile at 202-395-5806 or via e-mail at oira_submission@omb.eop.gov.

When submitting comments by e-mail please make sure to add OMB Control Number 1615-0086 in the subject box. Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: Application for Authorization to Issue Certification for Health Care Workers and Related Requirements.

(3) Agency form number, if any, and the applicable component of the Department of Homeland Security sponsoring the collection: Form I-905. U.S. Citizenship and Immigration Services.

(4) Affected public who will be asked or required to respond, as well as brief abstract: Primary: Individuals or households. This form will be used by USCIS to permit an organization to apply for authorization to issue certificates to health care workers.

(5) An estimate of the total number of respondents and the amount of time estimated for an average respondent to respond:

Request to issue Certificates: 10 responses at 4 hours per response.

Credential Organization: 14, 000 responses at 2 hours per response.

Applications: 14,000 responses at 1 hour and 40 minutes (1.66) per response.

(6) An estimate of the total public burden (in hours) associated with the collection: 51,280 annual burden hours.

If you have additional comments, suggestions, or need a copy of the information collection instrument, please visit the USCIS Web site at: http://www.regulations.gov/.

We may also be contacted at: USCIS, Regulatory Products Division, 20 Massachusetts Avenue, NW., Washington, DC 20529-2020, telephone number 202-272-8377.

Dated: July 1, 2011.
Evadne Hagigal,
Acting Chief, Regulatory Products Division, Office of the Executive Secretariat, U.S. Citizenship and Immigration Services, Department of Homeland Security.

[FR Doc. 2011-17125 Filed 7-7-11; 8:45 am]

BILLING CODE 9111-97-P